DEPARTMENT OF THE INTERIOR

National Park Service

Native American Graves Protection and Repatriation Review Committee: Meeting

AGENCY: National Park Service, Interior.

ACTION: Notice.

Notice is hereby given in accordance with the Federal Advisory Committee Act, 5 U.S.C. Appendix (1988), of meetings of the Native American Graves Protection and Repatriation Review Committee.

General Information

The Native American Graves Protection and Repatriation Review Committee was established by Public Law 101-601 to monitor, review, and assist in implementation of the inventory and identification process and repatriation activities required under the Native American Graves Protection and Repatriation Act (NAGPRA).

Persons wishing further information concerning review committee meetings may contact Mr. John Robbins, Assistant Director, Cultural Resources Stewardship and Partnerships, Designated Federal Official, Native American Graves Protection and Repatriation Review Committee 1849 C Street NW - 350 NC, Washington, DC 20240, telephone (202) 343-3388, facsimile (202) 343-5260, e-mail john_robbins@nps.gov. Transcripts of review committee meetings are available for public inspection approximately eight weeks after each meeting at the office of the Assistant Director, Cultural Resources Stewardship and Partnerships, Designated Federal Official, Native American Graves Protection and Repatriation Review Committee 800 North Capitol Street NW, Suite 350, Washington, DC 20001.

The protocol for review committee meetings is posted on the National NAGPRA Website (www.cr.nps.gov/nagpra; click “Review Committee,” then click “Procedures”).

Tribes, Alaska Native Villages and Corporations, and Native Hawaiian Organizations that are considering visits to museums or Federal agencies in review committee meeting locations for the purpose of transfers of repatriated human remains and cultural items may wish to schedule transfers to coincide with review committee meetings. Note that repatriation transfers may be supported by “repatriation awards” administered under the NAGPRA grants program. Information about NAGPRA grants is posted on the National NAGPRA Website (www.cr.nps.gov/nagpra; click “NAGPRA Grants”).

Cambridge, MA, meeting: November 2001

At the invitation of Harvard Law School and Peabody Museum of Archaeology and Ethnology, Harvard University, the review committee will meet on November 17-19, 2001, at Harvard Law School, in the Ropes Gray Room on the second floor of Pound Hall, 1563 Massachusetts Avenue, Cambridge, MA. A Harvard Law School map is available online (www.law.harvard.edu; click “About HLS,” then click “Map of Law School campus”).

The agenda for the meeting will include consideration of a dispute proposed by the Fallon Paiute-Shoshone Tribe, discussion of Federal agency compliance, contamination of cultural items, discussion of the NAGPRA grants program, and implementation of the statute in the northeastern United States.

Meeting sessions will begin at 8:30 a.m. and will end no later than 5:00 p.m. each day. The meeting is open to the public. Meeting space is limited and persons will be accommodated on a first-come, first-served basis. Persons wishing to make a presentation to the review committee should submit a request to do so by October 19, 2001, including a written abstract of your presentation and your contact information. Persons may also submit written statements for consideration by the review committee by October 19, 2001. Requests and statements should be addressed to the review committee in care of the Assistant Director, Cultural Resources Stewardship and Partnerships, Designated Federal Official, Native American Graves Protection and Repatriation Review Committee 1849 C Street NW - 350 NC, Washington, DC 20240.

No special lodging arrangements have been made for this meeting; accommodations are available in Cambridge, Boston, and nearby communities.

On November 19, 2001, following the conclusion of the review committee meeting, the Peabody Museum of Archaeology and Ethnology invites all meeting attendees to celebrate the raising of a new totem pole, the Kaats and Bear pole, in the Hall of the North American Indian, Peabody Museum of Archaeology and Ethnology, 11 Divinity Avenue, Cambridge, MA, at 3:30 p.m. A reception at the museum will follow the pole raising.

Tulsa, OK, meeting: May-June 2002

At the invitation of the University of Tulsa, the review committee will meet on May 31 and June 1-2, 2002 (tentative dates) at the University of Tulsa, Tulsa, OK. A notice including final meeting dates, the meeting agenda, and other meeting detail will be published in the Federal Register at least 90 days prior to the Tulsa, OK, meeting.

Dated: July 17, 2001.
John Robbins,
Assistant Director, Cultural Resources Stewardship and Partnerships, Designated Federal Official, Native American Graves Protection and Repatriation Review Committee

[FR Doc. 01-24962 Filed 10-4-01; 8:45 am]

BILLING CODE 4310-70-S